COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) from the Procurement List that were furnished by nonprofit agencies employing persons who are blind or have other severe disabilities.

DATES: Date deleted from the Procurement List: March 10, 2024.

ADDRESSES: Committee for Purchase From People Who Are Blind or Severely Disabled, 355 E Street SW, Suite 325, Washinton, DC 20024.

FOR FURTHER INFORMATION CONTACT: Michael R. Jurkowski, Telephone: (703) 785-6404, or email CMTEFedReg@AbilityOne.gov.

SUPPLEMENTARY INFORMATION:

Deletions

On 1/5/2024, the Committee for Purchase From People Who Are Blind or Severely Disabled published notice of proposed deletions from the Procurement List. This notice is published pursuant to 41 U.S.C. 8503 (a)(2) and 41 CFR 51-2.3.

After consideration of the relevant matter presented, the Committee has determined that the product(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) to the Government.

3. There are no known regulatory alternatives which would accomplish the objectives of the Javits-Wagner-O'Day Act (41 U.S.C. 8501-8506) in connection with the product(s) deleted from the Procurement List.

End of Certification

Accordingly, the following product(s) are deleted from the Procurement List:

Product(s)

NSN(s)—Product Name(s):

4730-00-470-6625—Kit, Brass Fittings, 88 Automotive Types, 430 Pieces

Designated Source of Supply: The Opportunity Center Easter Seal Facility—The Ala ES Soc, Inc., Anniston, AL

Contracting Activity: DLA LAND AND MARITIME SUPPLIER, COLUMBUS, OH

NSN(s)—Product Name(s):

6515-01-576-8837—Combat Arms Ear Plug, Single Ended, Size Small, BX/50 Pairs

6515-01-576-8861—Combat Arms Ear Plug, Single Ended, Size Medium, BX/50 Pairs

6515-01-576-8869—Combat Arms Ear Plug, Single Ended, Size Large, BX/50 Pairs

6515-00-SAM-0013—Combat Arms Ear Plug, Single Ended, Size Small, PR

6515-00-SAM-0014—Combat Arms Ear Plug, Single Ended, Size Medium, PR

6515-00-SAM-0015—Combat Arms Ear Plug, Single Ended, Size Large, PR

6515-01-686-9817—Combat Arms 4.1 Ear Plug, Single Ended, Size Small, BX/50

6515-01-686-9808—Combat Arms 4.1 Ear Plug, Single Ended Size Medium, BX/50

6515-01-686-9804—Combat Arms 4.1 Ear Plug, Single Ended Size Large, BX/50

Designated Source of Supply: Access: Supports for Living Inc., Middletown, NY

Contracting Activity: DLA TROOP SUPPORT, PHILADELPHIA, PA

Michael R. Jurkowski,
Acting Director, Business Operations.

[FR Doc. 2024-02685 Filed 2-8-24; 8:45 am]

BILLING CODE 6353-01-P